DEPARTMENT OF COMMERCE

International Trade Administration

[A-570-016, C-570-017]

Notice of Extension of the Deadline for Determining the Adequacy of the Antidumping and Countervailing Duty Petitions: Certain Passenger Vehicle and Light Truck Tires From the People's Republic of China

AGENCY: Enforcement and Compliance, International Trade Administration, Department of Commerce.

DATES: Effective Date: June 24, 2014.

FOR FURTHER INFORMATION CONTACT: Emily Halle, Toni Page, or Kaitlin Wojnar at (202) 482-0176, (202) 482-1398, or (202) 482-3857, respectively, AD/CVD Operations, Enforcement and Compliance, International Trade Administration, U.S. Department of Commerce, 14th Street and Constitution Avenue NW., Washington, DC 20230.

Extension of Initiation of Investigations

The Petitions

On June 3, 2014, the Department of Commerce (Department) received antidumping and countervailing duty petitions filed by the United Steel, Paper and Forestry, Rubber, Manufacturing, Energy, Allied Industrial and Service Workers International Union, AFL-CIO-CLC (Petitioner) on behalf of the domestic industry producing certain passenger vehicle and light truck tires.¹

¹ See Petitions for the Imposition of Antidumping Duties and Countervailing Duties on Certain Passenger Vehicle and Light Truck Tires from the People's Republic of China, June 3, 2014 (Petitions).

Determination of Industry Support for the Petitions

Sections 702(b)(1) and 732(b)(1) of the Tariff Act of 1930, as amended (the Act), require that a petition be filed by or on behalf of the domestic industry. Sections 702(c)(4)(A) and 732(c)(4)(A) of the Act provide that the Department's industry support determination be based on whether a minimum percentage of the relevant industry supports the petition. A petition meets this requirement if the domestic producers or workers who support the petition account for: (i) At least 25 percent of the total production of the domestic like product; and (ii) more than 50 percent of the production of the domestic like product produced by that portion of the industry expressing support for, or opposition to, the petition. Moreover, sections 702(c)(4)(D) and 732(c)(4)(D) of the Act provide that, if the petition does not establish support of domestic producers or workers accounting for more than 50 percent of the total production of the domestic like product, the Department shall: (i) Poll the industry or rely on other information in order to determine if there is support for the petition, as required by subparagraph (A), or (ii) if there is a large number of producers, determine industry support using a statistically valid sampling method to poll the industry.

Extension of Time

Sections 702(c)(1)(A)(ii) and 732(c)(1)(A)(ii) of the Act provide that within 20 days of the filing of an antidumping or countervailing duty petition, the Department will determine, inter alia, whether the petition has been filed by or on behalf of the U.S. industry producing the domestic like product. Sections 702(c)(1)(B) and 732(c)(1)(B) of the Act provide that the deadline for the initiation determination, in exceptional circumstances, may be extended by 20 days in any case in which the Department must “poll or otherwise determine support for the petition by the industry.” Because it is not clear from the Petitions whether the industry support criteria have been met, the Department determines it should extend the time for initiating an investigation in order to further examine the issue of industry support.

The Department will need additional time to gather and analyze additional information regarding industry support. Therefore, it is necessary to extend the deadline for determining the adequacy of the Petitions for a period not to exceed 40 days from the filing of the Petition. Because the extended initiation determinations date of July 13, 2014, falls on a Sunday, a non-business day, the Department's initiation determinations will now be due no later than July 14, 2014, the next business day.²

² See Notice of Clarification: Application of ”Next Business Day” Rule for Administrative Determination Deadlines Pursuant to the Tariff Act of 1930, As Amended, 70 FR 24533 (May 10, 2005).

International Trade Commission Notification

The Department will contact the International Trade Commission (ITC) and will make this extension notice available to the ITC.

Dated: June 17, 2014.
Christian Marsh,
Deputy Assistant Secretary for Antidumping and Countervailing Duty Operations.

[FR Doc. 2014-14716 Filed 6-23-14; 8:45 am]

BILLING CODE 3510-DS-P